DEPARTMENT OF THE TREASURY

Office of the Comptroller of the Currency

Agency Information Collection Requirements; Information Collection Renewal; Submission for OMB Review; Request for COVID-19 Vaccine Status and Proof of Vaccination

AGENCY: Office of the Comptroller of the Currency (OCC), Treasury.

ACTION: Notice and requests for comment.

SUMMARY: The OCC, as part of its continuing effort to reduce paperwork and respondent burden, invites the general public and other Federal agencies to take this opportunity to comment on the renewal of an information collection as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collection titled, “Request for COVID-19 Vaccine Status and Proof of Vaccination.” The OCC also is giving notice that it has sent the collection to OMB for review.

DATES: You should submit written comments by June 22, 2022.

ADDRESSES: Commenters are encouraged to submit comments by email, if possible. You may submit comments by any of the following methods:

• Email: prainfo@occ.treas.gov.

• Mail: Chief Counsel's Office, Attention: Comment Processing, 1557-0355, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “1557-0355” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. Find this particular information collection by selecting “Currently under 30-day Review—Open for Public Comments” or by using the search function.

On March 8, 2022, the OCC published a 60-day notice for this information collection, 87 FR 13042. You may review comments and other related materials that pertain to this information collection following the close of the 30-day comment period for this notice by the method set forth in the next bullet.

• Viewing Comments Electronically: Go to www.reginfo.gov. Hover over the “Information Collection Review” tab and click on “Information Collection Review” drop-down menu. From the “Currently under Review” drop-down menu, select “Department of Treasury” and then click “submit.” This information collection can be located by searching by OMB control number “1557-0355” or “Request for COVID-19 Vaccine Status and Proof of Vaccination.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th Street SW, Suite 3E-218, Washington, DC 20219. If you are deaf, hard of hearing, or have a speech disability, please dial 7-1-1 to access telecommunications relay services.

SUPPLEMENTARY INFORMATION: Under the PRA (44 U.S.C. 3501-3520), Federal agencies must obtain approval from the Office of Management and Budget (OMB) for each collection of information that they conduct or sponsor. “Collection of information” is defined in 44 U.S.C. 3502(3) and 5 CFR 1320.3(c) to include agency requests or requirements that members of the public submit reports, keep records, or provide information to a third party. The OCC asks that OMB renew its approval of this collection, which was approved on an emergency basis.

Title: Request for COVID-19 Vaccine Status and “Proof of Vaccination.”

OMB Control No.: 1557-0355.

Abstract: The President, by Executive order 13991 (January 20, 2021) established the Safer Federal Workforce Task Force (Task Force). The Task Force was established to give the heads of Federal agencies ongoing guidance to keep their employees safe and their agencies operating during the COVID-19 pandemic. The Task Force issued guidance, in accordance with the President's Executive Order 14043 (September 9, 2021), which required Federal employees to be vaccinated against COVID-19 by November 22, 2021, absent a legally-required exception. The Task Force issued guidance regarding individuals who start their government service after November 22, 2021, stating that those individuals should be fully vaccinated prior to their start date, except in limited circumstances where an accommodation is legally required. The guidance also provided that agencies should require documentation to prove vaccination status of those individuals prior to the enter on-duty date. To determine whether individuals who have been offered a position with the OCC are fully vaccinated during the onboarding process and before their enter on-duty date, the OCC developed the Appian vaccine attestation form in an online application (Attestation Form). The Attestation Form was developed, consistent with guidance issued by the Task Force and the U.S. Department of Treasury, to gather information from current and prospective employees regarding their vaccination status and secure proof of vaccination.

To ensure compliance with an applicable preliminary nationwide injunction, which may be supplemented, modified, or vacated, depending on the course of ongoing litigation, the OCC will take no action to implement or enforce the COVID-19 vaccination requirement pursuant to Executive Order 14043 on Requiring Coronavirus Disease 2019 Vaccination for Federal Employees while the injunction is in effect.

Type of Review: Extension, without change, of a currently approved collection.

Affected Public: Individuals.

Burden Estimate:

Estimated Number of Respondents: 250.

Estimated Burden per Respondent: 0.25 Hours.

Total Burden: 62.5 Hours.

On March 8, 2022, the OCC published a 60-day notice for this information collection, 87 FR 13042. No comments were received. Comments continue to be solicited on:

(a) Whether the collection of information is necessary for the proper performance of the functions of the agency, including whether the information has practical utility;

(b) The accuracy of the agency's estimates of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Theodore J. Dowd,
Deputy Chief Counsel, Office of the Comptroller of the Currency.

[FR Doc. 2022-11007 Filed 5-20-22; 8:45 am]

BILLING CODE 4810-33-P